DEPARTMENT OF THE INTERIOR

Fish and Wildlife Service

50 CFR Part 17

[Docket No. FWS-R1-ES-2015-0125; 4500030113]

RIN 1018-BB07

Endangered and Threatened Wildlife and Plants; Endangered Status for 49 Species From the Hawaiian Islands

AGENCY: Fish and Wildlife Service, Interior.

ACTION: Proposed rule; reopening of comment period, and announcement of public information meeting and hearing.

SUMMARY: We, the U.S. Fish and Wildlife Service (Service), announce the reopening of the comment period on our September 30, 2015, proposed rule to list 49 species from the Hawaiian Islands, including the Hawaiian distinct population segment of the band-rumped storm-petrel (Oceanodroma castro), the orangeblack Hawaiian damselfly (Megalagrion xanthomelas), the anchialine pool shrimp (Procaris hawaiana), seven yellow-faced bees (Hylaeus anthracinus, H. assimulans, H. facilis, H. hilaris, H. kuakea, H. longiceps, and H. mana), and 39 endemic plant species, as endangered species under the Endangered Species Act of 1973, as amended (Act). We now reopen the public comment period on the proposed rule for an additional 30 days and announce a public information meeting and public hearing on the proposed rule. We are reopening the public comment period and holding a public hearing to allow all interested parties an additional opportunity to comment on the proposed rule.

DATES: Written Comments: We will consider comments received or postmarked on or before February 22, 2016 or at the public hearing. Please note comments submitted electronically using the Federal eRulemaking Portal (see ADDRESSES, below) must be received by 11:59 p.m. Eastern Time on the closing date. Any comments that we receive after the closing date may not be considered in the final decision on these actions.

Public Information Meeting and Public Hearing: We will hold a public information meeting, followed by a public hearing, on Tuesday, February 9, 2016. The public information meeting will be held from 5:00 p.m. to 6:00 p.m., and the public hearing will be held from 6:00 p.m. to 8:00 p.m.

ADDRESSES: Document Availability: You may obtain copies of the proposed rule at http://www.regulations.gov at Docket No. FWS-R1-ES-2015-0125; from the Pacific Islands Fish and Wildlife Office's Web site (http://www.fws.gov/pacificislands); or by contacting the Pacific Islands Fish and Wildlife Office directly (see FOR FURTHER INFORMATION CONTACT).

Comment Submission: You may submit comments by one of the following methods:

(1) Electronically: Go to the Federal eRulemaking Portal: http://www.regulations.gov. In the Search box, enter FWS-R1-ES-2015-0125, which is the docket number for this action. You may submit a comment by clicking on “Comment Now!”

(2) By hard copy: Submit comments on the proposed listing rule by U.S. mail or hand-delivery to: Public Comments Processing, Attn: FWS-R1-ES-2015-0125; Division of Policy, Performance, and Management Programs; U.S. Fish and Wildlife Service, MS: BPHC; 5275 Leesburg Pike; Falls Church, VA 22041-3803.

(3) At the public hearing: Interested parties may provide oral or written comments at the public hearing.

We request that you provide comments only by the methods described above. We will post all comments on http://www.regulations.gov. This generally means that we will post any personal information you provide us (see the Public Comments section, below, for more information).

Public Information Meeting and Public Hearing: The public information meeting and public hearing will be held at Aunty Sally Kaleohano's Luau Hale, 799 Piilani Street, Hilo, HI 96720.

FOR FURTHER INFORMATION CONTACT: Mary Abrams, Field Supervisor, Pacific Islands Fish and Wildlife Office, 300 Ala Moana Boulevard, Honolulu, HI 96850; by telephone at 808-792-9400; or by facsimile at 808-792-9581. Persons who use a telecommunications device for the deaf (TDD) may call the Federal Information Relay Service (FIRS) at 800-877-8339.

SUPPLEMENTARY INFORMATION:

Public Comments

On September 30, 2015, we published in the Federal Register a proposed rule to list 49 species from the Hawaiian Islands as endangered species (80 FR 58820). We accepted public comments on the proposed rule for 60 days, ending November 30, 2015. During the comment period, we received a request to hold a public hearing and to extend the public comment period on the proposed rule. In order to ensure that the public has an adequate opportunity to review and comment, we are reopening the comment period on our September 30, 2015, proposed rule for an additional 30 days. We will accept comments and information until the date specified above in DATES or at the public hearing. We will consider all information and recommendations we receive from all interested parties.

For details on specific information that we are requesting, please see the Information Requested section of our proposed rule (80 FR 58820; September 30, 2015). The proposed rule is available at the Federal eRulemaking Portal at http://www.regulations.gov (see ADDRESSES, above). Our final determination concerning the proposed rulemaking will take into consideration all written and oral comments and any additional information we receive. If you previously submitted comments or information on the proposed rule, please do not resubmit them. We have incorporated them into the public record, and we will fully consider them in our final determination.

You may submit your comments and materials concerning the proposed rule by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as supporting documentation we used in preparing the proposed rule, will be available for public inspection on http://www.regulations.gov at Docket No. FWS-R1-ES-2015-0125 or by appointment, during normal business hours, at the U.S. Fish and Wildlife Service, Pacific Islands Fish and Wildlife Office (see FOR FURTHER INFORMATION CONTACT).

Public Information Meeting and Public Hearing

We will hold a public information meeting and public hearing on the date listed above in the DATES section at the location listed above in the ADDRESSES section. The public information meeting is an opportunity for Service staff to provide information and address questions on the proposed rule; at the public hearing, we accept formal verbal testimony on the proposed rule.

Anyone wishing to make an oral statement at a public hearing for the record is encouraged to provide a written copy of their statement to us at the hearing. In the event there is a large attendance, the time allotted for oral statements may be limited. Speakers can sign up at a hearing if they desire to make an oral statement. Oral and written statements receive equal consideration. There are no limits on the length of written comments submitted to us.

People needing reasonable accommodation in order to attend and participate in the public information meeting or public hearing should contact Mary Abrams, Field Supervisor, Pacific Islands Fish and Wildlife Office, as soon as possible (see FOR FURTHER INFORMATION CONTACT).

Authority: The authority for this action is the Endangered Species Act of 1973, as amended (16 U.S.C. 1531 et seq.).

Dated: January 5, 2016.
Stephen Guertin,
Acting Director, U.S. Fish and Wildlife Service.

[FR Doc. 2016-01143 Filed 1-21-16; 8:45 am]

BILLING CODE 4333-15-P